DEPARTMENT OF HEALTH AND HUMAN SERVICES

Centers for Disease Control and Prevention

[Program Announcement AA173]

A Cooperative Agreement for the Interstitial Cystitis Association To Develop and Implement a Program To Enhance Interstitial Cystitis Public and Health Provider Awareness Through Partnership, Education and Communication; Notice of Intent To Fund Single Eligibility Award

A. Purpose

The Centers for Disease Control and Prevention (CDC) announces the intent to fund fiscal year (FY) 2005 funds for a cooperative agreement program to promote public awareness and partnership, provide interstitial cystitis (IC) education for the general public and for health care providers, and develop and enhance communication channels to allow for improved interaction and information sharing among those with IC, advocates for persons with IC and their families, those who provide care and services for persons with IC, researchers, public health scientists, and the general public. The Catalog of Federal Domestic Assistance number for this program is 93.283.

B. Eligible Applicant

Assistance will be provided only to Interstitial Cystitis Association, 110 N. Washington Street, Suite 340, Rockville, MD 20850.

Founded in 1984, The Interstitial Cystitis Association (ICA) is a not-for-profit health organization and the national leader dedicated to providing patient and physician educational information and programs, patient support, public awareness and, most importantly, research funding for IC. ICA is the only not-for-profit national IC organization that promotes and provides funding for much needed IC research. This characteristic of ICA's organization is unmatched by any other public or private IC health organization currently conducting similar activities in the United States. The primary mission of ICA is to research a cure and treatment for IC and provide information and assistance to patients, doctors, and the general public.

The ICA has over 20 years of achievement unmatched by any other health organization dealing with IC issues. Some of these achievements include:

• Public awareness—the ICA has consistently attracted media attention to IC. Numerous articles featuring IC and the ICA have been published from the “New York Times,” “SELF Magazine,” “Good Housekeeping,” and many other national magazines. Subject-matter experts from the ICA have appeared on national TV and radio programs to include ABC's “Good Morning America,” CNN, and National Public Radio.

• Physician and Patient Education—Subject-matter experts from the ICA have published numerous articles on IC for professional journals including “Urology” and the “World Journal of Urology.” The ICA has worked closely with the NIDDK Division of Urology for over 15 years and has co-sponsored with the NIDDK, international scientific conferences as well as national IC patient meetings on IC biannually. ICA has also sponsored numerous regional educational programs for patients throughout the United States each year.

• Patient Support—The ICA provides a toll-free 800 number designed to quickly assist both IC patients and healthcare providers. ICA also provides nationwide individual support via telephone and e-mail by ICA National Patient Support Advocates; the International IC Question Corner on its Web site, where patients can e-mail the ICA and receive one-on-one assistance with their questions; the ICA Physician Registry which helps IC patients find IC-knowledgeable physicians; and IC connections, which brings together patients based on specific interests, concerns and regions, and an informational program on how to start new IC support groups.

• Innovative resources—the ICA published, and continues to regularly update, a series of brochures and fact sheets as well as “IC Treatment Guidelines”—the first comprehensive summary of IC treatments and medications designed for patients and their physicians for use as the basis for an individualized treatment plan. The ICA also publishes an on-line monthly news digest, “Café ICA,” and two quarterly newsletters—the “ICA Update,” the only printed newsletter on IC in the United States, and the “ICA Physician Perspectives.” ICA also publishes a “Pocket Guide” series for continuing patient education.

• Comprehensive Web Site—The ICA's Web site http://www.icahelp.org, established in 1995, is the most comprehensive Web site on IC available today, receiving over 1.4 million hits per month. The site includes: a Clinical trials section, their on-line monthly news digest—“Café ICA,” IC Question Corner which provides one-on-one patient support, Treatment Options, a section for health care providers, a comprehensive research section, and much more * * *.

• Non-profit leadership—the ICA remains the only United States 501 (c)(3) registered non-profit organization to fund IC research and provide educational programs on IC for both physicians and patients, as well as the public at large.

This mission and ICA's extensive network of resources and record of unmatched achievements over the last 20 years, makes it highly probable that ICA will successfully implement and complete all the required activities for this program announcement. For these reasons, the ICA is the only organization being considered for this program announcement.

C. Funding

Approximately $ 510,000 is available in FY 2005 to fund this award. It is expected that the award will begin on or before September 1, 2005, and will be made for a 12-month budget period within a project period of up to five years. Funding estimates may change.

D. Where To Obtain Additional Information

For general comments or questions about this announcement, contact: Technical Information Management, CDC Procurement and Grants Office, 2920 Brandywine Road, Atlanta, GA 30341-4146; telephone: 770-488-2700.

For technical questions about this program, contact: Richard S. Roman, Project Officer, HCAS/DACH/NCCDPHP/CDC, 4770 Buford Hwy., N.E., MS K-51, Chamblee, GA 30341; telephone: 770-488-5144; e-mail: rsr1@cdc.gov.

Dated: July 22, 2005.
William P. Nichols,
Director, Procurement and Grants Office, Centers for Disease Control and Prevention.

[FR Doc. 05-14927 Filed 7-27-05; 8:45 am]

BILLING CODE 4163-18-P